SECURITIES AND EXCHANGE COMMISSION

[Investment Company Act Release No. 35958; File No. 812-15990]

TIAA-CREF Funds, et al.

February 17, 2026.

AGENCY: Securities and Exchange Commission (“Commission” or “SEC”).

ACTION: Notice.

Notice of application for an order to amend a previous order granted pursuant to sections 6(c) and 17(b) of the Investment Company Act of 1940 (the “Act”) and rule 17d-1 under the Act to permit certain joint transactions otherwise prohibited by sections 17(a) and 17(d) of the Act and rule 17d-1 under the Act.

Summary of Application: Applicants seek to amend their existing relief in order to name additional applicants, and to permit additional investment advisers under common control with Teachers Advisers, LLC to serve as investment adviser to certain affiliated investment vehicles established to invest directly in real estate.

Applicants: TIAA-CREF Funds; Teachers Advisors, LLC; Nuveen Real Property Fund LP; Nuveen Real Property Fund GP LLC; Nuveen Real Property Fund REIT LLC; Nuveen Alternatives Advisors, LLC; Nuveen Asset Management, LLC; Nuveen Fund Advisors, LLC.

Filing Dates: The application was filed on February 13, 2026.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. The email should include the file number referenced above. Hearing requests should be received by the Commission by 5:30 p.m., Eastern time, on March 16, 2026, and should be accompanied by proof of service on the Applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at Secretarys-Office@sec.gov.

ADDRESSES: The Commission: Secretarys-Office@sec.gov. Applicants: Nuveen, 8500 Andrew Carnegie Boulevard, Charlotte, NC 28262, john.mccann@nuveen.com; Adam T. Teufel, Esq, Dechert LLP, 1900 K Street NW, Washington, DC 20006, adam.teufel@dechert.com.

FOR FURTHER INFORMATION CONTACT: Adam Large, Senior Special Counsel, or Daniele Marchesani, Assistant Chief Counsel, at (202) 551-6825 (Division of Investment Management, Chief Counsel's Office).

SUPPLEMENTARY INFORMATION: For Applicants' representations, legal analysis, and conditions, please refer to Applicants' application, filed February 13, 2026, which may be obtained via the Commission's website by searching for the file number at the top of this document, or for an Applicant using the Company name search field, on the SEC's EDGAR system.

The SEC's EDGAR system may be searched at https://www.sec.gov/search-filings. You may also call the SEC's Office of Investor Education and Advocacy at (202) 551-8090.

For the Commission, by the Division of Investment Management, under delegated authority.
Sherry R. Haywood,
Assistant Secretary.

[FR Doc. 2026-03329 Filed 2-19-26; 8:45 am]

BILLING CODE 8011-01-P